DEPARTMENT OF ENERGY

Federal Energy Regulatory Commission

[Project No. 12667-002]

City of Hamilton, OH; Notice Dismissing Request for Rehearing as Moot

January 5, 2007.

On August 10, 2006, the Director, Division of Hydropower Licensing, Office of Energy Project, issued a letter order rejecting as patently deficient an application for license that the City of Hamilton, Ohio (Hamilton) filed on May 12, 2006, proposing to develop a hydroelectric project at the U.S. Army Corps of Engineers' Captain Anthony Meldahl Lock and Dam on the Ohio River in Bracken County, Kentucky. On September 11, 2006, Hamilton sought rehearing of the rejection.

Hamilton filed a second license application for the proposed site on October 6, 2006. The new application was accepted for processing on December 13, 2006. Hamilton's request for rehearing is therefore dismissed as moot.

This notice constitutes final agency action. Requests for rehearing by the Commission of this dismissal must be filed within 30 days of the date of issuance of this notice, pursuant to 18 CFR 385.713.

Magalie R. Salas,
Secretary.

[FR Doc. E7-284 Filed 1-11-07; 8:45 am]

BILLING CODE 6717-01-P